NATIONAL AERONAUTICS AND SPACE ADMINISTRATION

[Notice: 14-023]

NASA Advisory Council; Science Committee; Astrophysics Subcommittee; Meeting

AGENCY: National Aeronautics and Space Administration.

ACTION: Notice of meeting.

SUMMARY: In accordance with the Federal Advisory Committee Act, Public Law 92-463, as amended, the National Aeronautics and Space Administration (NASA) announces a meeting of the Astrophysics Subcommittee of the NASA Advisory Council (NAC). This Subcommittee reports to the Science Committee of the NAC. The meeting will be held for the purpose of soliciting, from the scientific community and other persons, scientific and technical information relevant to program planning.

DATES: March 26 and 27, 2014, 8:30 a.m. to 5:00 p.m., (both days) Local Time.

ADDRESSES: NASA Headquarters, Room 3W42, 300 E Street SW., Washington, DC 20546.

FOR FURTHER INFORMATION CONTACT: Ms. Ann Delo, Science Mission Directorate, NASA Headquarters, Washington, DC 20546, (202) 358-0750, Fax (202) 358-2779, or ann.b.delo@nasa.gov.

SUPPLEMENTARY INFORMATION: The meeting will be open to the public up to the capacity of the room. The meeting will be available telephonically and by WebEx. Any interested person may call the USA toll free conference call number 888-469-2076, passcode 6717544, to participate in this meeting by telephone. Please note, the conference call number and password should be used March 26 and March 27, 2014. The WebEx link is https://nasa.webex.com/; the meeting number for March 26 is 994 808 873, password APS$March2014, and the meeting number for March 27 is 998 181 135, password is APSMarch27$. The agenda for the meeting includes the following topics:

—Astrophysics Program Update

—Astrophysics Missions Update

—Astrophysics Research and Analysis Program Update

—Update on Wide Field Infrared Survey Telescope and other Studies

Attendees will be requested to sign a register and to comply with NASA security requirements, including the presentation of a valid picture ID to Security before access to NASA Headquarters. Foreign nationals attending this meeting will be required to provide a copy of their passport and visa in addition to providing the following information no less than 10 working days prior to the meeting: Full name; gender; date/place of birth; citizenship; visa information (number, type, expiration date); passport information (number, country, expiration date); employer/affiliation information (name of institution, address, country, telephone); title/position of attendee; and home address to Ann Delo via email at ann.b.delo@nasa.gov or by fax at (202) 358-2779. U.S. citizens and Permanent Residents (green card holders) are requested to submit their name and affiliation 3 working days prior to the meeting to Ann Delo.

It is imperative that the meeting be held on this date to accommodate the scheduling priorities of the key participants.

Patricia D. Rausch,
Advisory Committee Management Officer, National Aeronautics and Space Administration.

[FR Doc. 2014-04587 Filed 2-28-14; 8:45 am]

BILLING CODE 7510-13-P